DEPARTMENT OF HEALTH AND HUMAN SERVICES

National Institutes of Health

Center for Scientific Review; Amended Notice of Meeting

Notice is hereby given of a change in the meeting of the Bioengineering of Neuroscience, Vision and Low Vision Technologies Study Section, June 17, 2021, 08:00 a.m. to June 18, 2021, 07:00 p.m., National Institutes of Health, Rockledge II, 6701 Rockledge Drive, Bethesda, MD 20892 which was published in the Federal Register on May 18, 2021, 86 FR 26930.

Correction

In the Federal Register of May 18, 2021, in FR Doc 2021-10425, on page 26930, in the second column, under the Name of Committee: Emerging Technologies and Training Neurosciences Integrated Review Group; Bioengineering of Neuroscience, Vision and Low Vision Technologies Study Section heading, correct the “Date” to read June 16, 2021-June 17, 2021. The meeting is closed to the public.

Dated: June 2, 2021.
David W. Freeman,
Program Analyst, Office of Federal Advisory Committee Policy.

[FR Doc. 2021-11842 Filed 6-7-21; 8:45 am]

BILLING CODE 4140-01-P